DEPARTMENT OF LABOR

Office of the Assistant Secretary for Veterans' Employment and Training

Secretary of Labor's Advisory Committee for Veterans' Employment and Training; Notice of Open Meeting

The Secretary's Advisory Committee for Veterans' Employment and Training was established under section 4110 of title 38, United States Code, to bring to the attention of the Secretary, problems and issues relating to veterans' employment and training.

Notice is hereby given that the Secretary of Labor's Advisory Committee for Veterans' Employment and Training will meet on Tuesday, June 18, 2002, beginning at 9 am at the U.S. Department of Labor, 200 Constitution Avenue, NW., Room S-1229G, Washington, DC, 20210.

Written comments are welcome and may be submitted by addressing them to: Mr. John Muckelbauer, Designated Federal Official, Office of the Assistant Secretary for Veterans' Employment and Training, U.S. Department of Labor, 200 Constitution Avenue, NW., Room S-1313, Washington, DC, 20210.

The primary items on the agenda are:

Assessment of the employment and training needs of veterans; Discussion of programs and activities designed to meet the employment and training needs of veterans;

Discussion of legislation pertaining to employment and training needs of veterans;

Other matters of interest to the Committee.

The meeting will be open to the public.

Persons needing special accommodations should contact Mr. John Muckelbauer at telephone number 202/693-4700 no later than June 12, 2002.

Signed at Washington, DC, this May 17, 2002.
Frederico Juarbe Jr.,
Assistant Secretary of Labor for Veterans' Employment and Training.

[FR Doc. 02-12958 Filed 5-22-02; 8:45 am]

BILLING CODE 4510-79-P